FEDERAL TRADE COMMISSION

Agency Information Collection Activities; Submission for OMB Review; Comment Request

AGENCY: Federal Trade Commission (“FTC”).

ACTION: Notice and request for comment.

SUMMARY: In compliance with the Paperwork Reduction Act (PRA) of 1995, the FTC is seeking public comments on its request to OMB for a three-year extension of the current PRA clearance for information collection requirements contained in its Trade Regulation Rule entitled Labeling and Advertising of Home Insulation (R-value Rule or Rule). That clearance expires on January 31, 2018.

DATES: Comments must be received by January 26, 2018.

ADDRESSES: Interested parties may file a comment online or on paper by following the instructions in the Request for Comments part of the SUPPLEMENTARY INFORMATION section below. Write “R-value Rule: FTC File No. R811001” on your comment, and file your comment online at https://ftcpublic.commentworks.com/ftc/rvaluerulepra2 by following the instructions on the web-based form. If you prefer to file your comment on paper, mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024.

FOR FURTHER INFORMATION CONTACT: Requests for additional information or copies of the proposed information requirements should be addressed to Hampton Newsome, Attorney, Division of Enforcement, Bureau of Consumer Protection, Federal Trade Commission, Mail Code CC-9528, 600 Pennsylvania Ave. NW, Washington, DC 20580, (202) 326-2889.

SUPPLEMENTARY INFORMATION:

Title: R-value Rule, 16 CFR part 460.

OMB Control Number: 3084-0109.

Type of Review: Extension of a currently approved collection.

Abstract: The R-value Rule establishes uniform standards for the substantiation and disclosure of accurate, material product information about the thermal performance characteristics of home insulation products. The R-value of an insulation signifies the insulation's degree of resistance to the flow of heat. This information tells consumers how well a product is likely to perform as an insulator and allows consumers to determine whether the cost of the insulation is justified.

On October 11, 2017, the Commission sought comment on the information collection requirements in the R-value Rule. 82 FR 47207. No germane comments were received. As required by OMB regulations, 5 CFR part 1320, the FTC is providing this second opportunity for public comment. Comments should address only the information collection requirements of the current Rule. They should not address proposed Rule amendments recently announced by the Commission in a separate proceeding.¹

¹ See, “FTC Proposes Updates to R-Value Rule for Home Insulation Products,” Dec. 4, 2017, https://www.ftc.gov/news-events/press-releases/2017/12/ftc-proposes-updates-r-value-rule-home-insulation-products.

Estimated Annual Hours Burden: 131,740 hours.

Likely Respondents and Estimated Burden:

Installation manufacturers, installers, new home builders/sellers, dealers and retailers.

(a) Installation manufacturers.

• Testing by installation manufacturers − 15 new products/year × 2 hours each = 30 hours; and

• Disclosures by installation manufacturers − [(144 manufacturers × 20 hours) + (6 largest manufacturers × 80 hours each] = 3,360 hours.

• Recordkeeping by installation manufacturers − 150 manufacturers × 1 hour each = 150 hours.

(b) Installers.

• Disclosures by retrofit installers (manufacturer's insulation fact sheet) − 2 million retrofit installations/year × 2 minutes each = 66,667 hours.

• Disclosures by installers (advertising) − 1,615 installers × 1 hour each = 1,615 hours.

• Recordkeeping by installers − 1,615 installers × 5 minutes each = 135 hours.

(c) New home builders/sellers, dealers.

• Disclosures by new home sellers − 1,174,000 new home sales/year × 30 seconds each = 9,783 hours.

(d) Retailers.

• Disclosures by retailers − [25,000 retailers × 1 hour each (fact sheets) + 25,000 retailers × 1 hour each (advertising disclosure) = 50,000 hours.

Frequency of Response: Periodic.

Total Annual Labor Cost: $2,616,943 per year (solely related to labor costs) [approximately $858 for testing, based on 30 hours for manufacturers (30 hours × $28.61 per hour for skilled technical personnel); $4,284 for manufacturers' and installers' compliance with the Rule's recordkeeping requirements, based on 285 hours (285 hours × $15.03 per hour for clerical personnel); $50,501 for manufacturers' compliance with third-party disclosure requirements, based on 3,360 hours (3,360 hours × $15.03 per hour for clerical personnel); and $2,561,300 for disclosure compliance by installers, new home sellers, and retailers (128,065 hours × $20 per hour for sales persons).]

Request for Comment

You can file a comment online or on paper. For the FTC to consider your comment, we must receive it on or before January 26, 2018. Write “R-value Rule: FTC File No. R811001” on your comment. Your comment—including your name and your state—will be placed on the public record of this proceeding, including, to the extent practicable, on the public Commission website, at http://www.ftc.gov/os/publiccomments.shtm. As a matter of discretion, the Commission tries to remove individuals' home contact information from comments before placing them on the Commission website.

Postal mail addressed to the Commission is subject to delay due to heightened security screening. As a result, we encourage you to submit your comments online, or to send them to the Commission by courier or overnight service. To make sure that the Commission considers your online comment, you must file it at https://ftcpublic.commentworks.com/ftc/rvaluerulepra2 by following the instructions on the web-based form. When this Notice appears at http://www.regulations.gov, you also may file a comment through that website.

If you file your comment on paper, write “R-value Rule: FTC File No. R811001” on your comment and on the envelope, and mail it to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610, Washington, DC 20024. If possible, submit your paper comment to the Commission by courier or overnight service.

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street NW, Washington, DC 20503. Comments sent to OMB by U.S. postal mail are subject to delays due to heightened security precautions. Thus, comments can also be sent via email to wliberante@omb.eop.gov.

Because your comment will be placed on the publicly accessible FTC website at https://www.ftc.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential” —as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC website—as legally required by FTC Rule 4.9(b)—we cannot redact or remove your comment from the FTC website, unless you submit a confidentiality request that meets the requirements for such treatment under FTC Rule 4.9(c), and the General Counsel grants that request.

The FTC Act and other laws that the Commission administers permit the collection of public comments to consider and use in this proceeding as appropriate. The Commission will consider all timely and responsive public comments that it receives on or before January 26, 2018. For information on the Commission's privacy policy, including routine uses permitted by the Privacy Act, see https://www.ftc.gov/site-information/privacy-policy.

David C. Shonka,
Acting General Counsel.

[FR Doc. 2017-27868 Filed 12-26-17; 8:45 am]

BILLING CODE 6750-01-P